FEDERAL COMMUNICATIONS COMMISSION

47 CFR Part 12

[EB Docket No. 06-119; WC Docket No. 06-63; FCC 07-139]

Recommendations of the Independent Panel Reviewing the Impact of Hurricane Katrina on Communications Networks

AGENCY: Federal Communications Commission.

ACTION: Final rule; delay of effective date.

SUMMARY: In the Order, the Federal Communications Commission (Commission) extends the effective date of the recently adopted section 12.2 of the Commission's rules to October 9, 2007.

DATES: The effective date of the recently adopted rule 47 CFR 12.2, published at 72 FR 37655, August 10, 2007 is delayed until October, 9, 2007.

ADDRESSES: Federal Communications Commission, 445 12th Street, SW., Room TW-A325, Washington, DC 20554.

FOR FURTHER INFORMATION CONTACT: Jean Ann Collins, Deputy Chief, Communications Systems Analysis Division, Public Safety and Homeland Security Bureau, Federal Communications Commission at (202) 418-2792.

SUPPLEMENTARY INFORMATION: This is a summary of the Commission's Order in EB Docket No. 06-119 and WC Docket No. 06-63, FCC 07-139, adopted and released on August 2, 2007. The complete text of this document is available for inspection and copying during normal business hours in the FCC Reference Information Center, Portals II, 445 12th Street, SW., Room CY-A257, Washington, DC 20554. This document may also be purchased from the Commission's duplicating contractor, Best Copy and Printing, Inc., in person at 445 12th Street, SW., Room CY-B402, Washington, DC 20554, via telephone at (202) 488-5300, via facsimile at (202) 488-5563, or via e-mail at FCC@BCPIWEB.COM. Alternative formats (computer diskette, large print, audio cassette, and Braille) are available to persons with disabilities by sending an e-mail to FCC504@fcc.gov or calling the Consumer and Governmental Affairs Bureau at (202) 418-0530, TTY (202) 418-0432. This document is also available on the Commission's Web site at http://www.fcc.gov.

Synopsis of the Order

1. In the Order, we extend the effective date of the recently adopted section 12.2 of the Commission's rules to October 9, 2007. This rule requires local exchange carriers (LECs), including incumbent LECS and competitive LECs, and commercial mobile radio service (CMRS) providers to have “an emergency backup power source for all assets that are normally powered from local AC commercial power, including those inside central offices, cell sites, remote switches and digital loop carrier system remote terminals.” The rule further states that “LECs and CMRS providers should maintain emergency back-up power for a minimum of 24 hours for assets inside central offices and eight hours for cell sites, remote switches and digital loop carrier system remote terminals that are normally powered from local AC commercial power.” LECs that meet the definition of a Class B company as set forth in section 32.11(b)(2) of the Commission's rules and non-nationwide CMRS providers with no more than 500,000 subscribers are exempt from this rule. Absent an extension, this rule would become effective on August 10, 2007, which is 30 days after publication of the Katrina Panel Order in the Federal Register.

2. On July 31, 2007, CTIA—the Wireless Association® (CTIA) filed a “Motion for Administrative Stay” of section 12.2 of the Commission's rules. In particular, CTIA requests an administrative stay, pending further review, of the requirement that CMRS providers have an emergency back-up power source for all assets that are normally powered by local AC commercial power, including a minimum of eight hours of back-up power for cell sites, by August 10, 2007.

3. On the Commission's own motion, the Commission hereby delays the effective date of the back-up power rule adopted in the Katrina Panel Order for a period of 60 days from the original effective date of the rule (i.e., the new effective date will be October 9, 2007). This will provide the Commission with additional time to consider the issues raised by CTIA in its Motion for Administrative Stay and to hear from other concerned parties on those issues.

4. Accordingly, it is ordered, pursuant to sections 4(i) and (j) of the Communications Act of 1934, as amended, 47 CFR 154(i) and (j), and sections 1.108 and 1.427 of the Commission's rules, 47 CFR 1.108 and 1.427, that the effective date of section 12.2 of the Commission's rules, 47 CFR 12.2, is delayed for a period of 60 days. The new effective date of this rule will be October 9, 2007.

5. It is further ordered that the effective date of the Order is the date upon which the Order is released by the Commission.

Federal Communications Commission.
Marlene H. Dortch,
Secretary.

[FR Doc. E7-15702 Filed 8-9-07; 8:45 am]

BILLING CODE 6712-01-P